DEPARTMENT OF THE INTERIOR

Fish and Wildlife Service

[FWS-R9-IA-2009-N200] [96300-1671-0000-P5]

Issuance of Permits

AGENCY: Fish and Wildlife Service, Interior.

ACTION: Notice of issuance of permits.

SUMMARY: We, the U.S. Fish and Wildlife Service (Service), have issued the following permits to conduct certain activities with endangered species or marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION: Notice is hereby given that on the dates below, as authorized by the provisions of the Endangered Species Act of 1973, as amended (16 U.S.C. 1531 et seq.), and/or the Marine Mammal Protection Act of 1972 (MMPA), as amended (16 U.S.C. 1361 et seq.), the Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit number | Applicant | Receipt of application Federal Register notice | Permit issuance date
207589 and 223466 | Victoria E. Wobber, Harvard University, Dept. of Anthropology | 74 FR 32192; July 7, 2009 (both permits were published in one notice for PRT-207589) | September 3, 2009
201169 | Saint Louis Zoo | 74 FR 28523; June 16, 2009 | August 6, 2009
210155 | Henry Doorly Zoo | 74 FR 21816; May 11, 2009 | September 1, 2009
211300 | William P. Weedon | 74 FR 28523, June 16, 2009 | August 7, 2009
211307 | Thomas H. Blue | 74 FR 32192; July 7, 2009 | August 13, 2009
211337 | Arlan M. Buckmeier | 74 FR 32192; July 7, 2009 | August 13, 2009
211919 | Michael C. Higgins | 74 FR 37240; July 28, 2009 | August 28, 2009
212751 | Sassan K. Moghadam | 74 FR 37240; July 28, 2009 | September 8, 2009
217668 | Wayne M. Pourciau | 74 FR 32192; July 7, 2009 | August 13, 2009
219947 | Eric L. Nysse | 74 FR 40230; August 11, 2009 | September 10, 2009

Marine Mammals
Permit number | Applicant | Receipt of application Federal Register notice | Permit issuance date
801652 | U.S. Geological Survey | 74 FR 47821; September 17, 2009 | September 18, 2009

On September 18, 2009, the Service issued an amendment to a permit (PRT- 801652) to the U.S. Geological Survey, to increase the number of walruses (Odobenus rosmarus) that may be incidentally harassed by the already authorized activities for the purpose of scientific research. We issued the amendment to the permit prior to the close of the public comment period because we found that delaying the issuance of the permit would result in the loss of a unique research opportunity that is present at this time. This action was authorized under section 104(c)(3)(A) of the MMPA. We will continue to accept and consider all comments regarding the amendment request through the close of the comment period as published in the September 17, 2009, receipt of application Federal Register notice (FR 74 FR 47821).

Dated: September 18, 2009
Lisa J. Lierheimer,
Senior Permit Biologist, Branch of Permits, Division of Management Authority.

[FR Doc. E9-23192 Filed 9-24-09; 8:45 am]

BILLING CODE 4310-55-S